NUCLEAR REGULATORY COMMISSION

[Docket No. 50-255; NRC-2014-0216]

Entergy Nuclear Operations, Inc.; Palisades Nuclear Plant

AGENCY: Nuclear Regulatory Commission.

ACTION: Director's decision under 10 CFR 2.206; issuance.

SUMMARY: The U.S. Nuclear Regulatory Commission (NRC) has issued a final director's decision with regard to a petition dated March 5, 2014, as supplemented on April 8, May 21, and September 3, 2014, filed by Mr. Michael Mulligan (the petitioner), requesting that the NRC take action with regard to Entergy Nuclear Operations, Inc. (ENO or the licensee) at Palisades Nuclear Plant (PNP). The petitioner's requests and the final director's decision are included in the SUPPLEMENTARY INFORMATION section of this document.

DATES: April 13, 2015.

ADDRESSES: Please refer to Docket ID NRC-2014-0216 when contacting the NRC about the availability of information regarding this document. You may obtain publicly-available information related to this document using any of the following methods:

• Federal Rulemaking Web site: Go to http://www.regulations.gov and search for Docket ID NRC-2014-0216. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jennivine Rankin, Office of Nuclear Reactor Regulation, U.S. Nuclear Regulatory Commission, Washington, DC 20555-0001; telephone: 301-415-1530, email: Jennivine.Rankin@nrc.gov.

SUPPLEMENTARY INFORMATION: Notice is hereby given that the Deputy Director, Nuclear Reactor Regulation, has issued a final director's decision (ADAMS Accession No. ML15054A365), on a petition filed by the petitioner on March 5, 2014 (ADAMS Accession No. ML14071A006), as supplemented on April 8, May 21, and September 3, 2014 (ADAMS Accession Nos. ML14143A212, ML14142A101, and ML14259A135, respectively). The petitioner requested a number of actions be taken by the NRC and the licensee for equipment failures at PNP. As the basis for the request, the petitioner stated that there have been recent plant events and equipment failures at PNP, such as parts of the primary coolant pump (PCP) impeller breaking off and lodging in the reactor vessel (RV) and flaws in the control rod drive mechanisms (CRDMs). The petitioner requested immediate action to prevent the PNP from restarting due to a piece of PCP impeller that was lodged between the RV and the flow skirt and due to flawed CRDMs.

By email dated March 19, 2014 (ADAMS Accession No. ML14083A680), the NRC staff denied the petitioner's request for immediate action to prevent PNP from restarting, based on the following factors:

1. The NRC performed an in-depth independent review of the licensee's analysis and concluded that the impeller piece did not pose a threat to safe operation of the reactor and RV.

2. The licensee replaced all of the CRDM housings prior to plant startup.

By teleconference on April 8, 2014, and again on September 3, 2014, the petitioner addressed the Petition Review Board (PRB). The meetings provided the petitioner with an opportunity to provide additional information and to clarify issues cited in the petition. The transcripts of these meeting were treated as supplements to the petition and are available in ADAMS, as previously noted.

In the agency's letter dated September 25, 2014 (ADAMS Accession No. ML14237A726), the NRC accepted the following specific issues of the petition for review under Section 2.206 of Title 10 of the Code of Federal Regulations (10 CFR):

1. Request for PNP to open every PCP for inspection and clear up all flaws.

2. Request for PNP to replace the PCPs with others designed for their intended duty.

3. Request an Office of the Inspector General (OIG) inspection on why different NRC regions have different analysis criteria for similar PCP events.

4. Request a $10 million fine over these events.

5. Request for PNP to return to yellow or red status and for the NRC to intensify its monitoring of PNP.

The NRC sent a copy of the proposed director's decision to the petitioner and the licensee for comment on January 23, 2015 (ADAMS Accession Nos. ML14338A435 and ML14338A431). The petitioner and the licensee were asked to provide comments within 15 days on any part of the proposed director's decision that was considered to be erroneous or any issues in the petition that were not addressed. Comments were received from the petitioner and are addressed in an attachment to the final director's decision.

The Deputy Director of the Office of Nuclear Reactor Regulation denied the petitioner's requests for the following actions:

1. Request for PNP to open every PCP for inspection and clear up all flaws.

2. Request for PNP to replace the PCPs with others designed for their intended duty.

3. Request a $10 million fine over these events.

4. Request for PNP to return to yellow or red status and for the NRC to intensify its monitoring of PNP.

The reasons for this decision are explained in the final director's decision DD-15-03, under 10 CFR 2.206 of the Commission's regulations. The petitioner's request for an OIG inspection on why different NRC regions have different analysis criteria for similar PCP events has been forwarded to the OIG. The NRC found no basis for taking the requested enforcement-related actions against PNP; thus, the NRC denies the petition. NRC staff did not find that the continued operation of PNP would adversely affect public health and safety. The NRC determined that the licensee's actions to date are adequate and there is reasonable assurance that the operation of the PNP will not endanger the health and safety of the public. For the performance deficiencies and inspection findings that the NRC has identified at PNP, the agency will continue to monitor the progress of the licensee's completion of corrective actions through planned inspections consistent with the NRC's ongoing reactor oversight process.

Consistent with 10 CFR 2.206(c), the NRC staff will file a copy of this final director's decision with the Secretary of the Commission for the Commission to review. As provided for in 10 CFR 2.206(c)(1), the final director's decision will constitute the Commission's final action within 25 days of the date of the decision unless the Commission, on its own motion, chooses to review the decision within that time.

Dated at Rockville, Maryland this 6th day of April 2015.
For the Nuclear Regulatory Commission.
Jennifer Uhle,
Deputy Director, Office of Nuclear Reactor Regulation.

[FR Doc. 2015-08409 Filed 4-10-15; 8:45 am]

BILLING CODE 7590-01-P